DEPARTMENT OF AGRICULTURE

Forest Service

Information Collection; Request for Comment; Public Attitudes, Beliefs, and Values About National Forest System Land Management

AGENCY: Forest Service, USDA.

ACTION: Notice.

SUMMARY: In accordance with the Paperwork Reduction Act of 1995, the Forest Service is seeking comments from all interested individuals and organizations on the new information collection—Public Attitudes, Beliefs, and Values About National Forest System Land Management.

DATES: Comments must be received in writing on or before September 22, 2006 to be assured of consideration. Comments received after that date will be considered to the extent practicable.

ADDRESSES: Comments concerning this notice should be addressed to: Dr. Daniel W. McCollum, Rocky Mountain Research Station, 2150-A Centre Ave., Suite 350, Fort Collins, CO 80526.

Comments also may be submitted via facsimile to (970) 295-5959 or by e-mail to: dmccollum@fs.fed.us.

The public may inspect comments received at Rocky Mountain Research Station, 2150-A Centre Ave., Suite 350, Fort Collins, CO 80526, Room 347 during normal business hours. Visitors are encouraged to call ahead to (970) 295-5951 to facilitate entry to the building.

FOR FURTHER INFORMATION CONTACT: Dr. Daniel W. McCollum, Rocky Mountain Research Station, (970) 295-5962. Individuals who use TDD may call the Federal Relay Service (FRS) at 1-800-877-8339, 24 hours a day, every day of the year, including holidays.

SUPPLEMENTARY INFORMATION: Title: Public Attitudes, Beliefs, and Values About National Forest System Land Management.

OMB Number: 0596-New.

Type of Request: New.

Abstract: Surveys have been developed for the purpose of providing natural forest land managers and planners with scientifically credible information from a broad and diverse representation of the public, as well as from specific stakeholder groups. The intent of this collection is to obtain information on public attitudes, beliefs, and values that people have for public land and public land use, how those values are affected by public land management, and acceptable tradeoffs in developing alternative management plans. This information is critical to planning and implementing public policy related to national forests in the Southwestern Region.

Legal authority for information collection in support of the forest plan revision process in the Southwestern Region comes from several sources: The National Environmental Policy Act of 1969, the National Forest Management Act of 1976, and the 2005 NFMA Planning Rule.

While social science and economic analyses are not explicitly mentioned in very many places, their use and relevance is implied in many places in natural resource management related legislation. Social science and economics can provide information about public values, preferences, and expectations that needs to be incorporated into the planning and decision making process. Further, social science and economics can provide qualitative and quantitative metrics with which management alternatives and agency performance can be evaluated.

Data collected with these survey instruments will provide a baseline from which to monitor national forest use and management as affected by changes in social and economic conditions. In addition, a comparison between response rates to mail-based and web-based surveys will be studied.

Estimate of Annual Burden: Mail or web-based survey—30 minutes (20,000 respondents); telephone survey of non-respondents to mail and web-based survey—8 minutes (200 respondents).

Type of Respondents: General public in two different geographical areas. A region-wide survey (Regional Survey) will be administered to the general public within the administrative boundaries of the Forest Service, Region 3 (New Mexico, Arizona, and a few counties in Texas and Oklahoma). The second survey (Test Survey) will be administered to the general public in areas specifically adjacent to four national forests (two in New Mexico, two in Arizona).

Estimated Annual Number of Respondents: 20,200.

Estimated Annual Number of Responses per Respondent: 1.

Estimated Total Annual Burden on Respondents: 10,027 burden hours annually.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: July 17, 2006.
Frederick Norbury,
Associate Deputy Chief, NFS.

[FR Doc. E6-11677 Filed 7-21-06; 8:45 am]

BILLING CODE 3410-11-P